DEPARTMENT OF THE INTERIOR

Bureau of Land Management

[WY-920-1430-EU; WYW 153358]

Termination of Segregative Effect of Mineral Conveyance Application and Opening of Land; Wyoming

AGENCY: Bureau of Land Management, Interior.

ACTION: Notice.

SUMMARY: This notice terminates the temporary segregative effect as to 2,920.00 acres of public land which was originally included in an application for conveyance of Federally owned mineral interests in Carbon County, Wyoming.

EFFECTIVE DATE: August 15, 2002.

FOR FURTHER INFORMATION CONTACT: Tamara Gertsch, BLM Wyoming State Office, 5353 Yellowstone Rd., P.O. Box 1828, Cheyenne, Wyoming 82003, 307-775-6115.

SUPPLEMENTARY INFORMATION: Pursuant to the regulations contained in 43 CFR 2091.2-2(2), at 9 a.m. on August 15, 2002, the following described lands will be relieved of the temporary segregative effect of mineral conveyance application WYW 153358:

Sixth Principal Meridian, Wyoming

T. 16 N., R. 82 W.,

sec. 13, SE¼, E½SW¼, NW¼SW¼, SW¼NW¼;

sec. 14, S½SW¼;

sec. 22, S½SE¼;

sec. 23, E½, E½W½, SW¼SW¼;

sec. 24, all;

sec. 25, N½;

sec. 26, N½, N½S½, SW¼SW¼;

sec. 27, E½, E½SW¼, SW¼SW½.

The above described lands contains 2,920 acres in Carbon County.

Dated: January 16, 2002.
Melvin Schlagel,
Realty Officer, Branch of Fluid Minerals, Lands & Appraisal.

Editorial note: This document was received at the Office of the Federal Register August 9, 2002.

[FR Doc. 02-20566 Filed 8-14-02; 8:45 am]

BILLING CODE 4310-22-P